DEPARTMENT OF THE INTERIOR

National Park Service

Environmental Assessment for Construction of a Raised Boardwalk and Improvements to Wildlife Viewing Areas at Dyke Marsh Wildlife Preserve

AGENCY: National Park Service, Interior.

ACTION: Availability of the Environmental Assessment for the proposed construction of a raised boardwalk and improvements to wildlife viewing areas at Dyke Marsh Wildlife Preserve (Dyke Marsh).

SUMMARY: Pursuant to Council on Environmental Quality regulations and National Park Service policy, the National Park Service announces the availability of an Environmental Assessment for the proposed construction of a raised boardwalk and improvements to wildlife viewing opportunities at Dyke Marsh Wildlife Preserve, within the George Washington Memorial Parkway (Parkway). The Environmental Assessment examines several alternatives for the specific location, size, and configuration of the boardwalk. The National Park Service is soliciting comments on this Environmental Assessment. These comments will be considered in evaluating it and making decisions pursuant to the National Environmental Policy Act (NEPA).

DATES: The Environmental Assessment will remain available for public comment 30 days from the date of publication in the Federal Register. Written comments should be received no later than March 10, 2000.

ADDRESSES: Comments on this Environmental Assessment should be submitted in writing to: Ms. Audrey F. Calhoun, Superintendent, George Washington Memorial Parkway, Turkey Run Park, McLean, Virginia 22101. The Environmental Assessment will be available for public inspection Monday through Friday, 8:00 a.m. through 4:00 p.m. at GWMP Headquarters, Turkey Run Park, McLean, VA, on the National Park Service Website www.nps.gov/gwmp/Dmcons.html and at several libraries in Alexandria, Fairfax and Arlington, Virginia.

SUPPLEMENTARY INFORMATION: The National Park Service proposes to construct a raised boardwalk and viewing platform at the end of the “Haul Road” trail in Dyke Marsh, now called Dyke Marsh trail, an area that is currently difficult to access because of persistent wet conditions. The intent of the proposed raised boardwalk is to provide better access and viewing opportunities than the current proliferation of informal social trails currently afford, and to encourage visitor use patterns that are more consistent with protection of the area's sensitive ecosystem. Specifically, the proposed action aims to:

• Provide enhanced opportunities to view wildlife and the environs of Dyke Marsh by improving access to the area, and affording a slightly elevated vantage point from which visitors may view wildlife and enjoy the surroundings.

• Enhance the protection of the area's natural resources by providing appropriate facilities (i.e., a raised boardwalk and interpretive waysides) that encourage visitor use patterns and activities that are consistent with responsible management of the Dyke Marsh ecosystem.

• Provide for increased educational opportunities and public understanding of Dyke Marsh and wetland ecology.

The proposed action is based on longstanding observations by National Park Service staff, general park visitors, and members of the Friends of Dyke Marsh. The current trail system neither provides adequate access to the marsh, nor is appropriate for the protection of vegetation and wildlife, including migratory and nesting bird species. While the Dyke Marsh trail provides reasonably good access to a point somewhat beyond the existing wooden footbridge, beyond that point the trail simply degenerates into a network of poorly defined, muddy social trails, many of which are inundated at high tide. While the social trails suggest a desire by visitors to be able to access the area, it is clear that there is no well defined or officially provided trail to meet that need. The existing conditions are insensitive to protection of vegetation and wildlife, and encourage the inappropriate and unmanaged development of more social trails. In addition, tidal fluctuations effectively limit opportunities to access some of the most scenic and interesting portions of the marsh, since much of the area is inundated or excessively muddy much of the time.

Increasingly, Dyke Marsh serves as a venue for environmental education and science programs for local school systems. The Parkway's expanding Parks-As-Classrooms program, as well as a multi-park science oriented program brings elementary and high school aged students to Dyke Marsh for educational programs. Construction of the boardwalk and viewing platform would enhance educational opportunities by making the marsh more easily accessible and improving wildlife viewing opportunities.

All interested individuals, agencies, and organizations are urged to provide comments on the Environmental Assessment. The National Park Service in making a final decision regarding this matter will consider all comments received by the closing date.

FOR FURTHER INFORMATION CONTACT: Mr. Bart Truesdell, (703) 289-2530.

Audrey F. Calhoun,
Superintendent, George Washington Memorial Parkway.

[FR Doc. 00-2883 Filed 2-8-00; 8:45 am]

BILLING CODE 4310-70-P